DEPARTMENT OF COMMERCE

International Trade Administration

[A-201-822]

Stainless Steel Sheet and Strip in Coils from Mexico; Antidumping Duty Administrative Review; Extension of Time Limit

AGENCY: Import Administration, International Trade Administration, Department of Commerce.

SUMMARY: The Department of Commerce (the Department) is extending the time limit for the preliminary results of the 2002-2003 administrative review of the antidumping duty order on stainless steel sheet and strip in coils from Mexico. This review covers one manufacturer/exporter of the subject merchandise to the United States and the period July 1, 2002 through June 30, 2003.

EFFECTIVE DATE: February 12, 2004.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue NW, Washington, DC 20230.

SUPPLEMENTARY INFORMATION: On August 22, 2003, in response to requests from the respondent, ThyssenKrupp Mexinox S.A. de C.V. (Mexinox), and Allegheny Ludlum, AK Steel Corporation, J&L Specialty Steel, Inc., North American Stainless, Butler-Armco Independent Union, Zanesville Armco Independent Organization, Inc., and the United Steelworkers of America, AFL-CIO/CLC (collectively, petitioners), we published a notice of initiation of this administrative review in the Federal Register. See Initiation of Antidumping and Countervailing Duty Administrative Reviews and Request for Revocation in Part, 68 FR 50750 (August 22, 2003). Pursuant to the time limits for administrative reviews set forth in section 751(a)(3)(A) of the Tariff Act of 1930, as amended (the Tariff Act), the current deadlines are April 1, 2004 for the preliminary results and July 30, 2004 for the final results. The Department, however, may extend the deadline for completion of the preliminary results of a review if it determines it is not practicable to complete the preliminary results within the statutory time limit. See 751(a)(3)(A) of the Tariff Act and section 351.213(h)(2) of the Department's regulations. In this case the Department has determined it is not practicable to complete this review within the statutory time limit because of significant case issues which require additional time to evaluate. These include: the reporting of downstream sales; a buyback of Thyssen Krupp AG's (Mexinox's parent company) shares from the Government of Iran; and major inputs purchased from affiliated suppliers. Therefore, the Department is extending the time limit for completion of the preliminary results until July 30, 2004 in accordance with section 751(a)(3)(A) of the Tariff Act. The deadline for the final results of this review will continue to be 120 days after publication of the preliminary results.

This extension is in accordance with section 751(a)(3)(A) of the Tariff Act (19 U.S.C. 1675 (a)(3)(A) (2001)).

Dated: February 4, 2004.
Barbara E. Tillman,
Acting Deputy Assistant Secretary for Import Administration, Group III.

[FR Doc. 04-3104 Filed 2-11-04; 8:45 am]

BILLING CODE 3510-DS-S